ENVIRONMENTAL PROTECTION AGENCY

[AD-FRL-7242-4]

Request for Applications for Cooperative Agreement: New and Emerging Air Technologies (NEAT) Web Data Base

AGENCY: Environmental Protection Agency (EPA).

ACTION: Notice; request for applications.

SUMMARY: This request for applications (RFA) solicits proposals to develop, maintain, promote and sustain a New and Emerging Air Technologies (NEAT) data base on the World Wide Web (Web). The purpose of this Web site is to aid industry, contractors, and State and local air permitting agencies in identifying new and emerging air technologies. These technologies need to be addressed in major permitting actions. They also need to be considered by State and local air pollution agencies and tribes in implementing programs to maintain and improve ambient air quality and protect public health.

DATES: The opening date of the solicitation is July 5, 2002. Letters of intent to apply must be postmarked, or sent via electronic mail (E-mail), no later than August 5, 2002. The closing date of the solicitation is November 1, 2002.

ADDRESSES: Official Mailing Address: NEAT Project, Attn: Bob Blaszczak (E143-03), U.S. EPA, OAQPS, ITPID, ITG, Research Triangle Park, NC 27711. Courier Address: NEAT Project, Attn: Bob Blaszczak (E143-03), U.S. EPA, OAQPS, ITPID, ITG, 4930 Old Page Road, Research Triangle Park, NC 27709. E-mail Address: blaszczak.bob@epa.gov.

FOR FURTHER INFORMATION CONTACT: Mr. Bob Blaszczak, Information Transfer Group (E143-03), Information Transfer & Program Integration Division, Office of Air Quality Planning & Standards, Office of Air & Radiation, U.S. EPA, Research Triangle Park, NC 27711. Telephone (919) 541-5432, Fax (919) 541-0242, E-mail blaszczak.bob@epa.gov.

SUPPLEMENTARY INFORMATION: The following outline is provided to aid in locating information in this notice:

I. Statutory Authority

II. Background

III. Funding

IV. Duration

V. Eligibility

VI. Description/Scope

VII. Review and Selection Process

VIII. Additional Considerations

IX. How to Apply

X. Pre-Application Assistance

XI. Fields in the EPA Data Base

I. Statutory Authority

The statutory authority for this action is Clean Air Act Section 103(b)3. The Catalog of Federal Domestic Assistance (CFDA) Number is 66.606.

II. Background

Section 108(h) of the Clean Air Act (the Act) Amendments of 1990, “RACT/BACT/LAER Clearinghouse” (RBLC), requires that the Administrator of EPA make information regarding emission control technology available to States and the general public through a central data base. As prescribed in the Act, the primary sources for this information are permits to construct new and/or modified major stationary sources issued by State and local agencies. These permits are part of the New Source Review (NSR) program legislated by Congress in parts C and D of Title I of the Act. These permitting actions require that the applicants propose and that permitting agencies determine, on a case-by-case basis, Best Available Control Technology (BACT) or Lowest Achievable Emission Rate (LAER) for emission sources locating in attainment (meets National Ambient Air Quality Standards) and nonattainment areas, respectively.

In 1993, the Clean Air Act Advisory Committee (CAAAC) recommended that the RBLC provide information on new and emerging air pollution prevention and control technologies in addition to NSR permit technology decisions. The CAAAC is made up of representatives from industry, State and local permitting agencies, and environmental organizations. The information on new and emerging technologies would be used by all of these groups, tribes and the public at large to expedite the NSR permitting process. This permit process requires:

1. Preparation of a comprehensive permit application by industry (or their contractors) that addresses emission control and prevention options and recommends the best technology (the application also must include analyses of potential air quality and other environmental impacts, air quality monitoring data or a plan to acquire it, and compliance verification procedures);

2. Review and processing of permit applications and issuance of permits by State or local permitting agencies and tribes that require best technology; and

3. Public review and comment on the permit and technology requirements.

The EPA has concluded that the best way to address this recommendation would be through the establishment of a Web data base that would provide information on new and emerging air pollution technologies. Air pollution technologies include methods, procedures, or devices, developed in the U.S. or abroad, that are used to: monitor air quality; control or prevent air pollution; analyze air pollution and related impacts; or test, monitor and verify compliance. This new Web data base would complement the existing RBLC Web that contains data on air permit emission limits and technology decisions that have already been made. To be successful the NEAT Web needs to:

1. Rely on coordination and communications with air pollution technology developers and suppliers;

2. List supplier and vender information on a public Web page;

3. Provide links to commercial sites; and

4. Promote the NEAT Web site and its capabilities.

The EPA believes that these activities are essential to the creation and maintenance of this new Web site, and will be very beneficial to the public. These essential activities can best be accomplished by an independent organization or institution with an existing presence on the Web, and a reputation for expertise in the field of air pollution. The EPA also believes that this proposed air pollution technology data base could generate revenue and sustain itself over time once it has been established (i.e., venders and suppliers would be willing to pay a nominal fee to list their technologies and/or provide linkage to a vender/supplier Web site or E-mail). The EPA expects to negotiate a program income plan with the successful offeror that will ensure long term sustainability. (See 40 CFR 30.24(b)(1) and (h))

This project directly benefits all parties (industry, contractors, State and local agencies, and the general public) involved in the development, review and processing of NSR permit applications and permits. Funds cannot be awarded for projects intended for the direct use and benefit of the Federal Government.

III. Funding

The amount of Federal funds available is $ 300,000 and the number of individual awards is one. All revenue generated by the operation of the NEAT Web site shall be used to maintain, improve, and sustain the NEAT Web site.

Funds awarded under this agreement may not be used to solicit user feedback or conduct user surveys. Non-Federal funds must be used for such activities. However, funds awarded under this agreement may be used to analyze information derived from user feedback mechanisms and surveys specifically related to the implementation of the NEAT Web site.

The EPA shall provide applicants that submit a letter of intent to apply (See Section IX—How to Apply) with a Microsoft Access data base that contains information on new and emerging air pollution technologies compiled by EPA. Section XI of this notice provides a list and description of fields included in the EPA data base. The data base contains records for approximately 300 new and emerging technologies developed in the U.S. and abroad. Note that the data base is part of a system that consists of various Web interfaces that interact with the data base. These interfaces are written in Microsoft Active Server Pages (ASP) and, in order to use the interfaces, must reside on a Windows server running Microsoft Internet Information Systems (IIS). This data base (and the interfaces, if appropriate) can be used by the successful applicant as the startup data base for the NEAT Web site. The data base and interfaces to be provided by EPA for review by applicants shall be on Compact Disk (CD).

IV. Duration

This assistance effort will last 2 years starting from the date of award.

V. Eligibility

Academic and not-for-profit institutions and organizations located in the U.S. are eligible to apply. Profit-making firms are not eligible to receive cooperative agreements from EPA under this program. Applications will be accepted from single institutions or organizations and from consortia that include more than one institution or organization. Federal agencies, national laboratories funded by Federal agencies (Federally Funded Research and Development Centers, FFRDCs), and Federal employees are not eligible to submit applications to this program and may not serve in a principal leadership role on this award.

Federal employees may not receive salaries or in other ways augment their agency's appropriations through this cooperative agreement. However, the nature of the cooperative assistance agreement mechanism, which will be used to support the NEAT Web site, contemplates collaboration between EPA personnel and the assistance provider's institution, organization or consortium. Personnel from EPA will actively consult and collaborate with the awardee in developing and maintaining the Web site. However, discussions regarding EPA collaboration will not take place until the final negotiation phase of the cooperative agreement.

The EPA reserves the right to reject all applications and proposals and make no award.

VI. Description/Scope

This solicitation is for a cooperative agreement. Because of RBLC staff experience in working with stakeholders and in supplying air pollution technology information, EPA anticipates that there will be substantial EPA involvement in the design and initial implementation of this proposal. Also, EPA is suppling a Web compatible data base to serve as a starting point for implementing this proposal and is prepared to advise the applicant concerning the development and maintenance of that data base.

The applicant must address the following items in the proposal:

1. Existing Web presence, equipment, capabilities, security and support.

2. Institution's/organization's level of expertise and recognition in the field of air pollution and air pollution technologies.

3. The approach that will be taken to establish a searchable Web data base (including an automated data entry procedure/system for information providers) that contains information on new, emerging and existing air technologies. These technologies shall include emission controls, pollution prevention, emissions and ambient air monitoring, air pollution modeling, and environmental management, tracking, and decision-making approaches. Provisions shall be made to include both U.S. and foreign technologies.

4. How the data base will be maintained and kept current. This should include a procedure to require venders to update their data periodically.

5. Methods that will be used to promote this data base to encourage data submittal by technology developers and suppliers and use by industry, permitting agencies, environmental groups and the general public. If applicable, indicate methods that will be used to acquire appropriate co-sponsors (e.g., industry and professional trade associations, environmental groups, etc.)

6. Basic quality assurance and security procedures to maintain the integrity of the data base.

7. Mechanism to acquire feedback from stakeholders and users that can be used in establishing and maintaining this Web data base as a relevant and reliable information source. Funds awarded under this agreement may not be used to solicit user feedback or conduct user surveys. Non-Federal funds must be used for such activities. However, funds awarded under this agreement may be used to analyze information derived from user feedback mechanisms and surveys specifically related to the implementation of the NEAT Web site.

8. Sustainability Plan—methods, procedures and time frame to make the NEAT Web site self-sustaining and ensure the viability of the site. Applicants should describe the decision-making process that will be used to identify and evaluate revenue generating procedures that can sustain this site over time. Revenue generating opportunities may include, but are not limited to, nominal fees for listing technologies, links to vender Web sites, E-mail links to venders, and including existing air technologies in the data base to increase the potential revenue base. Applicants should describe the decision-making process to determine how and when revenue generating procedures will be implemented once the NEAT Web site has established itself as a major air technologies Web site. Applicants should indicate other resources that may be used to support and sustain the NEAT Web.

9. Budget, staffing and administrative procedures. OMB circulars on regulations, cost principles, and other administrative requirements (40 CFR part 30) shall be followed. See Application Kit for Federal Assistance under Section IX (How to Apply) for more information.

10. Applicants must clearly mark any information in the application that they consider confidential. The EPA will make final confidentiality decisions in accordance with Agency regulations at 40 CFR part 2, subpart B.

VII. Review and Selection Process

Applicants must have an established presence on the World Wide Web and possess strong expertise in the field of air pollution. Applicants will be judged on the following criteria:

1. Adequacy of existing Web site (hardware and software) to support the New and Emerging Air Technologies Web. (Weight: 10%)

2. Relevant experience of the applicant (institution/organization) in the field of air pollution technology. (Weight: 10%)

3. Originality and creativity of the proposal to develop, maintain, support and promote the New and Emerging Air Technology Web site and data base. (Weight: 30%)

4. Plan to acquire and evaluate user/stakeholder input and implement improvements to generate and sustain interest in and usefulness of the site. Funds awarded under this agreement may not be used to solicit user feedback or conduct user surveys. Non-Federal funds must be used for such activities. However, funds awarded under this agreement may be used to analyze information derived from user feedback mechanisms and surveys specifically related to the implementation of the NEAT Web site. (Weight: 20%)

5. Originality and creativity of the proposal's Sustainability Plan in identifying, evaluating, selecting and implementing procedures that will generate revenue and allow the site to become self-sustaining. (Weight: 30%) All applications will be reviewed by an appropriate application review panel. The panel will be composed of EPA staff with expertise in information transfer, World Wide Web applications, air pollution prevention and control technology, and environmental monitoring, measurements and analysis.

VIII. Additional Considerations

Executive Order 12372, “Intergovernmental Review of Federal Programs,” provides States the opportunity to review and comment on activities proposed for Federal funding. Where feasible, and to the extent permitted by law, State and local review processes and comments must be incorporated into Federal Programs as early in the planning stage as possible. See Application Kit for Federal Assistance under Section IX (How to Apply) for additional information.

IX. How To Apply

Applicants must:

1. Send a letter of intent to apply to the address listed under ADDRESSES above (or via E-mail to blaszczak.bob@epa.gov) before submitting an application for this assistance. Letters of intent to apply must be postmarked (or sent via E-mail) no later than August 5, 2002. Letters of intent must include the name of your organization and a contact person's name, mailing address, E-mail address, phone number, and fax number.

2. Obtain, complete and submit an Application Kit for Federal Assistance. The kit and any additional forms can be acquired on the Web at <http://www.epa.gov/ogd/grants/how_to_apply.htm>. Hard copies are available from the Program Office contact listed under FOR FURTHER INFORMATION CONTACT above.

3. Include a narrative that addresses all of the areas listed under Section VI (Description/Scope); and

4. Submit one (1) original and four (4) printed copies of the application to the address listed under ADDRESSES above. Applications must be received by 4:00 PM Eastern Daylight Savings Time November 1, 2002. Only a printed (hard copy) submittal will be accepted.

X. Pre-Application Assistance

The EPA will conduct one conference call to allow potential applicants to ask questions. Only potential applicants who submit letters of intent to apply will be provided conference call information. The call is intended to assist applicants with questions about the proper completion and submission of their proposals. The content of the calls is entirely dependent upon the questions asked. The EPA will also take questions via E-mail that is posted (dated) on or before September 6, 2002. All E-mail questions must be sent to the Program Office Contact listed under FOR FURTHER INFORMATION CONTACT above. All questions received by E-mail and EPA's response to the questions will be posted on the Web at <http://www.epa.gov/ttn/catc/> no later than September 23, 2002.

In order to ensure that all applicants have access to the same information, the only forums for posing substantive questions on the competition are the conference call and E-mail procedure noted above. Except for responses to procedural questions (e.g., due dates, proposal formats), EPA will not provide other assistance prior to final submission of applications.

XI. Fields in the EPA Data Base

The following fields are in the current EPA data base:

1. ID—Primary Key

2. TECH—Name of Technology

3. SUMMARY—Description of Technology

4. CLASS—Classification of Technology (pollution prevention, modeling, monitoring, testing, add-on)

5. DEGDEV—Degree of Development (commercially available, prototype, product design phase)

6. CATEGORY—Controlled Process Type (based on RBLC process types)

7. POLL—1—Primary Pollutant Treated (NOX, SOx, VOC, PM2.5, PM10, NH3, HAP, CO)

8. CONTEFF—P1—Likely Control Efficiency of Primary Pollutant

9. CONTEFF—H—P1—Maximum Control Efficiency of Primary Pollutant

10. CONTEFF—L—P1—Minimum Control Efficiency of Primary Pollutant

11. CSTON—P1—Average Annual Cost Per Ton of Primary Pollutant Reduced

12. POLL—2—Secondary Pollutant Treated (NOX, SOx, VOC, PM2.5, PM10, NH3, HAP, CO)

13. CONTEFF—P2—Likely Control Efficiency for Secondary Pollutant

14. CONTEFF—H—P2—Maximum Control Efficiency for Secondary Pollutant

15. CONTEFF—L—P2—Minimum Control Efficiency for Secondary Pollutant

16. CSTON—P2—Average Annual Cost Per Ton of Secondary Pollutant Reduced

17. POLL—3—Tertiary Pollutant Treated (NOX, SOx, VOC, PM2.5, PM10, NH3, HAP, CO)

18. CONTEFF—P3—Likely Control Efficiency for Tertiary Pollutant

19. CONTEFF—H—P3—Maximum Control Efficiency for Tertiary Pollutant

20. CONTEFF—L—P3—Minimum Control Efficiency for Tertiary Pollutant

21. CSTON—P3—Average Annual Cost Per Ton of Tertiary Pollutant Reduced

22. CAPCST—Capital Cost ($)

23. OMCST—Operation and Maintenance Cost ($/year)

24. DLYR—Cost Dollar Year ($1999, $2000, etc.)

25. LIFETIME—Expected Equipment Life (years)

26. NAME—Name of Vendor, or Developer

27. EMAIL—E-mail of Vendor, or Developer

28. VZP—Zip Code of Vendor, or Developer

29. VST—State of Vendor, or Developer (all U.S. States and Canadian Provinces)

30. PURL—Web Page URL for Technology

31. VCTY—City of Vendor, or Developer

32. VADD—Address of Vendor, or Developer

33. VADD2—Additional Address Information of Vendor, or Developer

34. VNAME—Name of Organization that developed, or sells technology

35. VPH—Phone Number of Vendor, or Developer

36. TITLE—Job Title of Point of Contact

37. POLL—CONC—Applicable Pollutant Concentration (microgram per cubic meter, concentration ranges)

38. STREAM—TEMP—Applicable Gas Stream Temperature (degrees Celsius, temperature ranges)

39. STREAM—TEMP—H—Maximum Temperature of Gas Stream (degrees Celsius, temperature ranges)

40. STREAM—TEMP—L—Minimum Temperature of Gas Stream (degrees Celsius, temperature ranges)

41. VOL—FL—RT—Volumetric Flow Rate (cubic feet per second, rate ranges)

42. APP—ST—States that have Approved Use of this Technology

43. APP—AGENCIES—Federal Agencies that have Approved Use of this Technology

44. PARAM—MEA—Monitored Parameter

45. SAMP—FREQ—Sampling Frequency

46. SAMP—PREC—Sampling Precision

47. SAMP—ACC—Sampling Accuracy

48. MAN—AUTO—Manual or Automated (manual, automated, or not applicable)

49. ADDITIONAL—Other Applicable Information

50. PRF—TST—MTHD—Performance Test Method

51. ENFORC—PROC—Enforcement and Inspection Procedure

52. CONT—PARA—Continuous or Parametric Monitoring System

53. CRIT—HAP?—Criteria Pollutant or HAP List?

54. IONIC—Ionic Species as Applicable

55. PHYS—ST—Physical State at X Temperature

56. PHYS—ST—TEMP—Physical State Temperature

57. PHYS—ST—PRES—Physical State Pressure

58. OP—PARAM—CONT—PM—MONT—Operational Parameters for Continuous Parametric Monitoring

59. COLL—MECH—Sample Collection, Transport, Recovery and Analysis Mechanisms

60. VALID—STAT—Validation Status as related to Verification, EPA Method 301 validation, Peer Review, or Collaborative Testing Results

61. AVAIL—DOC—Available Documentation

62. COST—PER—TEST—Cost Per Test numeric

63. SYS—REQ—System Requirements

Dated: June 27, 2002 .
Elizabeth Craig,
Deputy Assistant Administrator for Air and Radiation.

[FR Doc. 02-16863 Filed 7-3-02; 8:45 am]

BILLING CODE 6560-50-P